DEPARTMENT OF STATE

[Public Notice: 12296]

Determination and Certification With Respect to the Child Soldiers Prevention Act of 2008

ACTION: Determination.

SUMMARY: The State Department is publishing a Determination signed by the Secretary of State on October 5, 2021.

SUPPLEMENTARY INFORMATION: Antony J. Blinken, Secretary of State, signed the following “Determination and Certification with Respect to the Child Soldiers Prevention Act of 2008” on October 5, 2021. The State Department maintains the original document.

(Begin summary.)

Determination and Certification with Respect to the Child Soldiers Prevention Act of 2008 Pursuant to section 404 of the Child Soldiers Prevention Act of 2008 (CSPA) (22 U.S.C. 2370c-1) and Presidential Memorandum dated October 14, 2020, I hereby:

(1) Determine that it is in the national interest of the United States to waive the application of the prohibition under section 404(a) of the CSPA with respect to Mali to allow for the issuance of licenses for direct commercial sales of military equipment; and

(2) Certify that the government of Mali is taking effective and continuing steps to address the problem of child soldiers.

Accordingly, I hereby waive such application of section 404(a) of the CSPA with respect to Mali for Fiscal Year 2022.

This Determination and Certification shall be published in the Federal Register and transmitted, along with the accompanying Memorandum of Justification, to the appropriate committees of Congress.

(End summary.)

Danusia K. Hubah,
Director, Office of Security and Human Rights, Bureau of Democracy, Human Rights, and Labor, Department of State.

[FR Doc. 2023-28798 Filed 12-29-23; 8:45 am]

BILLING CODE 4710-18-P